ENVIRONMENTAL PROTECTION AGENCY

[OPP-66295A; FRL-6817-7]

Benomyl; Cancellation Order

AGENCY: Environmental Protection Agency (EPA).

ACTION: Notice.

SUMMARY: This notice announces a cancellation order for product cancellations requested by the American Mushroom Institute, Amvac Chemical Corp., Pursell Industries, Inc., the Scotts Company, Value Garden Supply LLC, and Voluntary Purchasing Groups, Inc. for their registrations of pesticide products containing methyl 1-(butylcarbamoyl)-2-benzimidazole carbamate, or benomyl, and accepted by EPA, pursuant to section 6(f) of the Federal Insecticide, Fungicide, and Rodenticide Act (FIFRA). This order follows up an October 12, 2001, notice of receipt of request for the above-mentioned voluntary registration cancellations. In that notice, EPA requested comments on the proposed cancellations and indicated that it would issue an order confirming the cancellations. Any distribution, sale, or use of canceled benomyl products is only permitted in accordance with the terms of the existing stocks provisions of this cancellation order.

DATES: The cancellations are effective January 15, 2002.

FOR FURTHER INFORMATION CONTACT: Demson Fuller, Special Review and Reregistration Division (7508C), Office of Pesticide Programs, Environmental Protection Agency, 1200 Pennsylvania Ave., NW., Washington, DC 20460, telephone number: (703) 308-8062; fax number: (703) 308-7042; e-mail address: fuller.demson@epamail.epa.gov.

SUPPLEMENTARY INFORMATION:

I. General Information

A. Does this Action Apply to Me?

This action is directed to the public in general. You may be potentially affected by this action if you manufacture, sell, distribute, or use benomyl products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an official record for this action under docket control number OPP-66295A. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Receipt of Request to Cancel Registrations

A. Background

Benomyl is a benzimidazole carbamate and systemic foliar fungicide registered for use on a variety of fruit and vegetable crops.

The technical registrant, E.I. duPont de Nemours and Company (DuPont), met with the Agency on April 18, 2001, and requested a voluntary cancellation of all their registrations for products containing benomyl. DuPont stated that this decision was based on business reasons. Following a public comment period on the proposed cancellations and consideration of comments received, the cancellation order was published in the Federal Register and became effective on August 8, 2001.

The Agency also received letters from the following registrants requesting voluntary cancellation of all their products containing benomyl: American Mushroom Institute, Amvac Chemical Corp., Pursell Industries, Inc., the Scotts Company, Value Garden Supply LLC, and Voluntary Purchasing Groups, Inc.

In their letters, Pursell and Amvac stated that they no longer manufacture or distribute end use products that contain benomyl and therefore, no end use products should be in the channels of trade. Likewise, in their letter, Value Garden Supply noted that their benomyl products are no longer being sold and they are not aware of any stocks of the products in the channels of trade. The American Mushroom Institute requested cancellation of its 24(c) registration due to the cancellation of DuPont's registrations. The Scotts Company and Voluntary Purchasing Groups, Inc. had end-use products that were suspended on April 13, 1994, and May 20, 1998, respectively. Both registrants failed to comply with a Data Call-In that was issued on June 16, 1992. The Agency contacted both The Scotts Company and Voluntary Purchasing Groups, Inc. to notify them that DuPont canceled all its benomyl registrations, and both registrants subsequently submitted letters requesting voluntary cancellations.

Pursuant to section 6(f)(1) of the Federal Insecticide, Fungicide, and Rodenticide Act (FIFRA), EPA announced receipt of these requests from the American Mushroom Institute, Amvac Chemical Corp., Pursell Industries, Inc., The Scotts Company, Value Garden Supply LLC, and Voluntary Purchasing Groups, Inc., in a Federal Register Notice published on October 12, 2001 (66 FR 52132) (FRL-6805-3). In that Notice, EPA provided a 30-day comment period. All of the registrants requested the Administrator waive the 180-day comment period provided under FIFRA section 6(f)(1)(c), and EPA granted this request. No public comments were received during the 30-day comment period.

B. Requests for Voluntary Cancellation of Products

Pursuant to FIFRA section 6(f)(1)(A), American Mushroom Institute, Amvac Chemical Corp., Pursell Industries Inc., the Scotts Company, Value Garden Supply LLC, and Voluntary Purchasing Groups, Inc., have submitted requests for voluntary cancellation of registrations for their products containing benomyl. The registrations for which cancellations were requested are identified in the following table.

Product Registration Cancellation Requests
Company | Registration No. | Product
American Mushroom Institute | PA-97000200 | Dupont Benlate® SP Fungicide
Amvac Chemical Corp. | 5481-138 | ALCO® Systemic Fungicide
Pursell Industries Inc. | 8660-75 | VertaGreen Systemic Disease Control
The Scotts Company | 538-66 | Scotts Proturf 28 - 0 - 7 Fertilizer Plus Fungicide DSB
| 538-132 | Scotts Proturf DSB Fungicide
Value Garden Supply LLC | 769-874 | Pratt Benomyl 50W Systemic Fungicide
| 769-921 | Science Benomyl 50W Systemic Fungicide
Voluntary Purchasing Groups, Inc. | 7401-225 | Fertilome® Systemic Fungicide with Benomyl
| 7401-407 | American Brand® Benomyl Systemic Fungicide

III. Cancellation Order

Pursuant to section 6(f)(1)(A) of FIFRA, EPA is approving the requested cancellations. Accordingly, EPA orders that the registrations identified in Table 1, are hereby canceled. Any distribution, sale, or use of existing stocks of the products identified in the table above in a manner inconsistent with the terms of this Order or the Existing Stock Provisions in Unit IV. of this Federal Register Notice will be considered a violation of section 12(a)(2)(K) of FIFRA and/or section 12(a)(1)(A) of FIFRA.

IV. Existing Stocks Provisions

For purposes of this Order, the term “existing stocks” is defined, pursuant to EPA's existing stocks policy June 26, 1991 (56 FR 29362) (FRL-3846-4), as those stocks of a registered pesticide product which are currently in the United States and which have been packaged, labeled, and released for shipment prior to the effective date of cancellation.

A. Distribution or Sale by the Registrant

Cancellation orders generally permit a registrant to sell or distribute existing stocks for 1 year after the date the cancellation request was received. However, the registrants have stated that they no longer manufacture or distribute end use products that contain benomyl. Therefore, the distribution or sale of existing stocks by registrants will not be lawful under FIFRA after January 15, 2002 except for the purposes of returns and relabeling, shipping such stocks for export consistent with the requirements of section 17 of FIFRA, or for proper disposal.

B. Distribution and Sale by Other Persons

Sale or distribution by any person of existing stocks of any products identified in the table above will not be lawful under FIFRA after December 31, 2002.

V. Notification of Intent to Revoke Tolerances

This Notice also serves as an advance notification that the Agency intends to revoke the related tolerances for the canceled registrations listed in this Notice unless there is a request from the public to support the tolerances for import purposes. EPA believes that production of technical benomyl ended in April 2001, and use of any remaining existing stocks of these products will likely end in 2003 given that the sale and distribution of benomyl products will end on December 31, 2002. EPA will determine how long treated food containing residues of benomyl could remain in the channels of trade assuming that the last treatment occurred on December 31, 2003, and will set the expiration date accordingly.

It is EPA's general practice to propose revocation of tolerances for residues of pesticide active ingredients for which FIFRA registrations no longer exist, to protect the food supply of the U.S. and to discourage the misuse of pesticides within the United States. In many cases the cancellation of a food use in the U.S. indicates that there are insufficient domestic residue data or other information to support the continuation of the tolerance and an uncertain amount of relevant data concerning residues on imported food. In the absence of relevant data, EPA is unable to make a safety finding regarding the treated food entering the U.S. Upon request, EPA will provide interested parties with its import tolerance policy and data requirements, explaining how an interested party should go about seeking to retain a tolerance for import purposes.

List of Subjects

Environmental protection, Pesticides and pests.

Dated: January 3, 2002.
Lois A. Rossi,
Director, Special Review and Reregistration Division, Office of Pesticide Programs.

[FR Doc. 02-958 Filed 1-14-02; 8:45 am]

BILLING CODE 6560-50-S